DEPARTMENT OF HEALTH AND HUMAN SERVICES

National Institutes of Health

National Cancer Institute Amended Notice of Meeting

Notice is hereby given of a change in the meeting of the National Cancer Institute Board of Scientific Advisors, March 11, 2015, 9:00 a.m. to March 11, 2015, 5:00 p.m., National Institutes of Health, Building 31, 31 Center Drive, Bethesda, MD 20892 which was published in the Federal Register on February 19, 2015, 80FR8889.

This Notice is being amended to change the start time of the meeting from 9:00 a.m. to 8:30 a.m. The meeting is open to the public.

Dated: February 24, 2015.
Melanie J. Gray,
Program Analyst, Office of Federal Advisory Committee Policy.

[FR Doc. 2015-04170 Filed 2-27-15; 8:45 am]

BILLING CODE 4140-01-P